NUCLEAR REGULATORY COMMISSION

[IA-05-021; ASLBP No. 05-839-02-EA]

In The Matter Of Andrew Siemaszko; Establishment Of Atomic Safety And Licensing Board

Pursuant to delegation by the Commission dated December 29, 1972, published in the Federal Register, 37 FR 28,710 (1972), and the Commission's regulations, see 10 CFR 2.104, 2.202, 2.300, 2.303, 2.309, 2.311, 2.318, and 2.321, notice is hereby given that an Atomic Safety and Licensing Board is being established to preside over the following proceeding:

Andrew Siemaszko (Enforcement Action)

This proceeding concerns a request for hearing submitted on May 11, 2005, by Andrew Siemaszko in response to an April 25, 2005 NRC staff “Order Prohibiting Involvement In NRC-License Activities,” 70 FR 22720 (May 2, 2005). Under the terms of that staff order, because of his alleged failure to report the presence of boric acid near the reactor pressure vessel head on a condition report and a work order prepared in connection with a refueling outage at the Davis-Besse Nuclear Power Station that ended in May 2000, that resulted, in part, in a significant adverse condition going uncorrected, Mr. Siemaszko (1) as of the effective date of the order, is prohibited for five years from engaging in NRC-licensed activities; (2) if currently involved with another licensee in NRC-licensed activities, must immediately cease those activities, inform the NRC of the employer, and provide a copy of the order to the employer; and (3) for a period of five years after the five-year prohibition period has expired, must, within twenty days of accepting his first employment offer involving NRC-licensed activities or his becoming involved in NRC-licensed activities, provide notice to the agency of the employer or the entity where he is, or will be, involved in NRC-licensed activities.

The Board is comprised of the following administrative judges: Lawrence G. McDade, Chair, U.S. Nuclear Regulatory Commission, Washington, DC 20555-0001; E. Roy Hawkens, U.S. Nuclear Regulatory Commission, Washington, DC 20555-0001; Dr. Peter S. Lam, U.S. Nuclear Regulatory Commission, Washington, DC 20555-0001.

All correspondence, documents, and other materials shall be filed with the administrative judges in accordance with 10 CFR 2.302.

Issued in Rockville, Maryland, this 18th day of May 2005.
G. Paul Bollwerk, III,
Chief Administrative Judge, Atomic Safety and Licensing Board Panel.

[FR Doc. E5-2588 Filed 5-23-05; 8:45 am]

BILLING CODE 7590-01-P